DEPARTMENT OF DEFENSE

Office of the Secretary

DoD Medicare-Eligible Retiree Health Care Board of Actuaries; Notice of Federal Advisory Committee Meeting

AGENCY: DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the DoD Medicare-Eligible Retiree Health Care Board of Actuaries will take place.

DATES: Friday, August 2, 2013, from 10:00 a.m. to 11:30 a.m.

ADDRESSES: 4800 Mark Center Drive, Conference Room 18, Level B1, Alexandria, VA 22350.

FOR FURTHER INFORMATION CONTACT: For further information contact Kathleen Ludwig at the Defense Human Resource Activity, DoD Office of the Actuary, 4800 Mark Center Drive, STE 06J25-01, Alexandria, VA 22350-4000. Phone: (571) 372-1993, Email: Kathleen.Ludwig@osd.pentagon.mil.

SUPPLEMENTARY INFORMATION:

Purpose of the Meeting: The purpose of the meeting is to execute the provisions of Chapter 56, Title 10, United States Code (10 U.S.C. 1114 et. seq.). The Board shall review DoD actuarial methods and assumptions to be used in the valuation of benefits under DoD retiree health care programs for Medicare-eligible beneficiaries.

Agenda

1. Meeting Objective

a. Review of FY 2014 per capita full-time and part-time normal cost amounts

b. Approve actuarial assumptions and methods needed for calculating:

i. FY 2015 per capita full-time and part-time normal cost amounts

ii. September 30, 2012 unfunded liability (UFL)

iii. October 1, 2013 Treasury UFL amortization and normal cost payments

2. Trust Fund Update

3. Medicare-Eligible Retiree Health Care Fund Update

4. September 30, 2011 Actuarial Valuation Results

5. September 30, 2012 Actuarial Valuation Proposals

6. Decisions

Actuarial assumptions and methods needed for calculating:

a. FY 2015 per capita full-time and part-time normal cost amounts.

b. September 30, 2012 unfunded liability (UFL).

c. October 1, 2013 Treasury UFL amortization and normal cost payments.

Public's Accessibility to the Meeting: Pursuant to 5 U.S.C. 552b and 41 CFR 102-3.140 through 102-3.165 and the availability of space, this meeting is open to the public. Seating is on a first come basis. The Mark Center is an annex of the Pentagon. Those without a valid DoD Common Access Card must contact Kathleen Ludwig at 571-372-1993 no later than June 28, 2013. Failure to make the necessary arrangements will result in building access being denied. It is strongly recommended that attendees plan to arrive at the Mark Center at least 30 minutes prior to the start of the meeting.

Committee's Designated Federal Officer or Point of Contact: Persons desiring to attend the DoD Medicare-Eligible Retiree Health Care Board of Actuaries meeting or make an oral presentation or submit a written statement for consideration at the meeting, must notify Kathleen Ludwig at (571) 372-1993, or Kathleen.Ludwig@osd.pentagon.mil, by June 28, 2013.

Dated: February 6, 2013.
Aaron Siegel,
Alternate OSD Federal Register Liaison Officer, Department of Defense.

[FR Doc. 2013-03060 Filed 2-11-13; 8:45 am]

BILLING CODE 5001-06-P